DEPARTMENT OF TRANSPORTATION

Office of the Secretary

[Docket No. DOT-OST-2022-0099]

Privacy Act of 1974; System of Records

AGENCY: Office of the Departmental Chief Information Officer, Office of the Secretary of Transportation, DOT.

ACTION: Notice of a modified system of records.

SUMMARY: In accordance with the Privacy Act of 1974, the Department of Transportation (DOT) intends to rename, modify and re-issue a DOT Federal Aviation Administration (FAA) system of records notice titled, “DOT/FAA 845 Administrators Correspondence Control and Hotline Information System, ACCIS, Administrator's Hotline Information System, AHIS, and Consumer Hotline Information System, CHIS.” The name of this SORN will be changed to “DOT/FAA 845 Complaint Intake System.” The modification of the system of records notice (hereafter referred to as “Notice”) will include the intake records for additional types of allegations that need to be identified in the Notice for purposes of transparency and accountability by FAA. These expanded reports are of actual or perceived aviation safety hazards and potential violations of criminal, civil and administrative laws and regulations, and aviation safety related orders under the regulatory oversight of the FAA. The Suspected Unapproved Program (SUP) complaint intake records covered by the former DOT/FAA 852 SUP Program SORN will be subsumed by this Notice. The records of the complaint investigations and resolutions will be covered by the updated DOT/FAA 852 Complaint Investigations System (formerly SUP Program) SORN, while the complaint intake will be covered by this Notice.

DATES: Written comments should be submitted on or before November 14, 2022. The Department may publish an amended SORN in light of any comments received. This new system will be effective November 14, 2022.

ADDRESSES: You may submit comments, identified by docket number 2022-0099 by any of the following methods:

• Federal e-Rulemaking Portal: http://www.regulations.gov. Follow the instructions for submitting comments.

• Mail: Docket Management Facility, U.S. Department of Transportation, 1200 New Jersey Ave. SE, West Building Ground Floor, Room W12-140, Washington, DC 20590-0001.

• Hand Delivery or Courier: West Building Ground Floor, Room W12-140, 1200 New Jersey Ave. SE, between 9 a.m. and 5 p.m. ET, Monday through Friday, except Federal Holidays.

• Fax: (202) 493-2251.

• Instructions: You must include the agency name and docket number DOT-OST-2022-0099. All comments received will be posted without change to http://www.regulations.gov, including any personal information provided.

Privacy Act: Anyone is able to search the electronic form of all comments received in any of our dockets by the name of the individual submitting the comment (or signing the comment, if submitted on behalf of an association, business, labor union, etc.).

Docket: For access to the docket to read background documents or comments received, go to http://www.regulations.gov or to the street address listed above. Follow the online instructions for accessing the docket.

FOR FURTHER INFORMATION CONTACT: For questions, please contact Karyn Gorman, Acting Departmental Chief Privacy Officer, Privacy Office, Department of Transportation, Washington, DC 20590; privacy@dot.gov; or 202-366-3140.

SUPPLEMENTARY INFORMATION:

I. Background

In accordance with the Privacy Act of 1974, 5 U.S.C. 552a, the Department of Transportation (DOT) proposes to rename, modify and re-issue a DOT system of records notice to be titled, “Department of Transportation, Federal Aviation Administration, DOT/FAA 845 Complaint Intake System.”

The Notice currently covers FAA Administrator correspondence and hotline records which includes those who write, call, or are referred to the Administrator, the Deputy Administrator, and their immediate offices; those who write, call, or are referred to the Secretary, the Deputy Secretary, and their immediate offices, and the correspondence which has been referred to the FAA; individuals who are the subject of an action requiring approval or action by one of the forenamed, such as appeals, actions, grievances, and applications for waivers from the FAA. These FAA correspondence control records will be subsumed under the DOT/Office of the Secretary (OST)-041 Correspondence Control Mail (CCM) SORN.¹ This Notice will cover the intake and processing of administrator hotlines along with additional reports of actual or perceived aviation safety hazards as well as allegations of violations of criminal, civil and administrative laws and regulations, and aviation safety related orders under the regulatory oversight of the FAA. These records, hereafter referred to as “complaints or complaint records,” originate from members of the public as well as FAA employees and contractors. While the information technology (IT) systems referenced in the previous Notice, ACCIS, AHIS and CHIS, are decommissioned, their records have been subsumed into different IT systems and continue to be covered by this updated Notice with the exception of the correspondence control files. Records pertaining to the SUP program, whistleblower complaints and other aviation safety-related issues, such as aircraft noise concerns, and allegations by FAA's Office of Aviation Safety (AVS) employees about individuals and external entities, are being added to this system of records in order to consolidate maintenance of complaint records by the FAA. AVS employees utilize an internal system to report their issues whereas others, including remaining FAA personnel and members of the public, use external facing websites to submit their SUP, whistleblower and other aviation safety-related complaints. The records of all complaint investigations and resolutions are currently covered by the updated DOT/FAA 852 Complaint Investigations System (formerly SUP Program), while the complaint intake records are to be covered by this Notice. Complaint records may include, but are not limited to, certain personal information such as name, address, phone number, email address, aircraft registration number, and certificate number of the reporting individual or subject of alleged violations.

¹ DOT is in the process of updating the DOT/OST-041 CCM SORN. Please check the DOT Privacy Act System of Records Notices page (Privacy Act System of Records Notices | US Department of Transportation) for the current status of the update.

The following substantive changes have been made to the Notice:

1. System Name: This Notice updates the system name to “DOT/FAA 845 Complaint Intake System” to better reflect the expanded scope of the system of records created as part of the complaint intake process under this Notice.

2. System Location: This Notice updates the system location to include the multiple system locations for the various complaint records added to this Notice. The additional system locations include the William J. Hughes Technical Center (WJHTC) in Atlantic City, New Jersey, and the facility at 3701 MacIntosh Drive, Warrenton, Virginia. The complaints submitted by AVS employees prior to April 2021 are located at the Mike Monroney Aeronautical Center (MMAC) in Oklahoma City, Oklahoma, and the subsequent records are located at the MITRE offices at 7525 Colshire Drive, McLean, Virginia. The previous reference to the Administrator offices at the FAA headquarters locations will be removed from this Notice given correspondence control records will be covered by the DOT/OST-041 SORN, however, the FAA headquarters location will remain with updated office information.

3. System Manager: This Notice updates the system manager information to reflect the inclusion of records maintained at the WJHTC in Atlantic City, New Jersey, the facility at Warrenton, Virginia, the MMAC in Oklahoma City, Oklahoma (pre-April 2021) and the MITRE offices in McLean, Virginia (April 2021 onward). Additionally, contact information for each system manager is included in this update. The reference in the previous Notice to the Administrator offices at the FAA headquarters locations will be removed from this Notice given correspondence control records will be covered by the DOT/OST-041 SORN, however, the FAA headquarters location will remain with updated office and contact information.

4. Authority: This Notice updates the authorities to include: 49 United States Code (U.S.C.) 42121 which applies to discrimination against airline employees reporting safety concerns/violations, as well as reporting of other safety issues covered by 49 U.S.C. 40101 section 341, section 510, section 1210 Federal Aviation Reauthorization Act of 1996, and section 180 FAA Reauthorization Act of 2018, and 49 U.S.C. 106(t). 49 U.S.C. 44701, from DOT/FAA 852, covering the SUP program, including discussion on safety and minimum safety standards, will be added given that SUP complaint intake records are subsumed into this Notice. This statute also applies to AVS personnel complaints and other hotline records. The previously referenced authority of 44 U.S.C. 3101 as it pertains to records containing adequate and proper documentation of the organization, functions, policies, decisions, procedures, and essential transactions of the agency that are maintained by heads of agencies, such as the Administrator and Noise Ombudsman, will remain in this Notice.

5. Purpose: This Notice updates the purpose of this System as covering the records pertaining to the complaint reports of unsafe or unauthorized aviation activities concerning the perceived or actual violations of FAA regulation, order, or other provision of Federal law related to aviation safety or practices, including SUP, whistleblower and noise complaints. The previous purpose to provide documentation of hotline calls will remain with expanded language, and information related to correspondence records will be removed in this Notice.

6. Categories of Individuals: This Notice updates the categories of individuals to include complainants, such as members of the public, FAA employees and contractors, and other individuals alleged to have been involved in the reported alleged violations or other aviation safety concerns. These individuals add clarification to the previously referenced individuals who write, call in or are referred to senior agency heads, as well as correspondence and subjects of actions requiring approval by these agency heads.

7. Categories of Records: This Notice updates the categories of records with files specific to reports of alleged violations. The list of personal information contained in these complaint records could include names of complainants and other individuals involved with the alleged violations, contact information (phone number, address, email address), certificate number, aircraft registration number, aircraft tail number, and report/case tracking number (to include, but not limited to, reference number, case number, record number, and control number). The previously referenced records, such as specific correspondence files involving senior agency heads, will be removed from this Notice.

8. Records Source Categories: The Notice updates the records source categories to clarify that records related to complaints of alleged violations are received from complainants, including members of the public, FAA employees and contractors, and other federal agencies. The previously referenced correspondence by members of the public to senior agency heads will be removed from this Notice.

9. Routine Uses: This Notice updates the routine uses to include the Department of Transportation's general routine uses applicable to this Notice as they were previously only incorporated by reference. OMB Memoranda A-108 recommends that agencies include all routine uses in one notice rather than incorporating general routine uses by reference. Therefore, the Department is replacing the statement in DOT/FAA 845 that referenced the “Statement of General Routine Uses” with all of the general routine uses that apply to this system of records. The routine use referenced in the previous Notice is superseded by the departmental routine uses and will be removed in this update. This Notice adds new system-specific routine uses that are compatible with the purpose of the system of records. The routine uses include:

a. To the Federal Bureau of Investigation, U.S. Customs Service, and the Department of Defense, the initial SUP complaints received by FAA, for their use in any civil/criminal investigations when an FAA suspected unapproved parts case is initiated. FAA waits for the go-ahead from these external entities before proceeding with any investigation of their own;

b. Routine use (2)(a) and 2(b) apply only to records pertaining to noise complaints, and do not apply to information contained in related hotline or whistleblower protection complaint files. Pursuant to routine use 2(a) and 2(b), the FAA may disclose:

i. To airport sponsors, federal agencies and departments when necessary to resolve noise complaints of their manned and unmanned aircraft, and other operators of aerial landing and takeoff sites, records relating to noise complaints stemming from their flight operations and to ensure consistency between the FAA and these entities on noise complaints;

ii. To manned and unmanned aircraft operators when necessary to resolve a complaint pertaining to the operator, or when necessary to ensure consistency between the FAA and the operator in responding to noise complaints. Records disclosed pursuant to this routine use are limited to the following information: geolocation only to the extent necessary to identify the general location of the noise complaint; time and date of complaint; and description of the complaint or inquiry. Complainant names and contact information will not be disclosed pursuant to this routine use; and

c. To officials of labor organizations recognized under 5 U.S.C. chapter 71, when relevant and necessary to their duties of exclusive representation concerning AVS's Voluntary Safety Reporting Program. The FAA analysts work in conjunction with the labor organizations in conducting the investigations of actual or alleged violations reported by AVS employees.

10. Records Retrieval: This Notice updates records retrieval to include all records that can be retrieved by report/case tracking number (to include, but not limited to, reference number, case number, and record number). Additionally, FAA complaint records can be retrieved by individual's name (including complainant name and subject of complaint) while noise complaint records can be retrieved by individual's name, email address and address (street/city/state). This language supersedes that in the previous Notice.

11. Records Retention and Disposal: This Notice updates the records retention and disposal to reflect records retention timeframes for the new type of complaints covered by this System. FAA complaints and whistleblower records are to be maintained in accordance with DAA-0237-2019-0012 with cut off after cases are closed and destruction 3 years after cut off, and the SUP records maintained in accordance with DAA-0237-2019-0010 with cut off at the end of the calendar year in which cases are closed and destruction 8 years after cut off. The FAA is adding a new section to DAA-0237-2019-0012 to request destruction of noise complaint records to be 10 years after cut off. These records will be treated as permanent records until the temporary record is approved by the National Archives and Records Administration (NARA). Finally, records on AVS employee reporting on aviation safety matters are maintained in accordance with DAA-0237-2019-0012 with destruction 3 years after cut off (pre-April 2021) with subsequent records collected to be treated as permanent records until NARA approves the new records retention request, DAA-0237-2020-0028, for 15 years. This language supersedes that in the previous Notice.

12. Records Access: This Notice updates the record access procedures to reflect that signatures on signed requests for records must either be notarized or accompanied by a statement made under penalty of perjury in compliance with 28 U.S.C. 1746.

The following non-substantive changes to Records storage, administrative, technical and physical safeguards, contesting records procedures, and notification procedures, have been made to improve the transparency and readability of the Notice:

13. Records Storage: This Notice updates records storage procedures to generalize the language.

14. Administrative, Technical and Physical Safeguards: This Notice updates the administrative, technical and physical safeguards to generalize the language.

15. Contesting Records: This Notice updates the procedures for contesting records to refer the individual to the record access procedures section.

16. Notifications: This Notice updates the notification procedures to refer the individual to the record access procedures section.

II. Privacy Act

The Privacy Act (5 U.S.C. 552a) governs the means by which the Federal Government collects, maintains, and uses personally identifiable information (PII) in a System of Records. A “System of Records” is a group of any records under the control of a Federal agency from which information about individuals is retrieved by name or other personal identifier. The Privacy Act requires each agency to publish in the Federal Register a System of Records Notice (SORN) identifying and describing each System of Records the agency maintains, including the purposes for which the agency uses PII in the system, the routine uses for which the agency discloses such information outside the agency, and how individuals to whom a Privacy Act record pertains can exercise their rights under the Privacy Act (e.g., to determine if the system contains information about them and to contest inaccurate information). In accordance with 5 U.S.C. 552a(r), DOT has provided a report of this system of records to the Office of Management and Budget and to Congress.

SYSTEM NAME AND NUMBER:

Department of Transportation (DOT)/Federal Aviation Administration (FAA) 845 Complaint Intake and Correspondence Records System.

SECURITY CLASSIFICATION:

Unclassified, sensitive.

SYSTEM LOCATION:

The system locations are as follow:

1. Hotline complaints, including SUP and whistleblower records: Office of Audit and Evaluation, Reporting and Data Analysis Branch, AAE-300, Federal Aviation Administration, 800 Independence Avenue SW, Washington, DC 20591; and, AIT Infrastructure and Operations, Data Center Services, AIF-300, Federal Aviation Administration, William J. Hughes Technical Center, Atlantic City, New Jersey 08405.

2. AVS employee reporting: Operations Services Division AIF-300, Federal Aviation Administration, Mike Monroney Aeronautical Center (MMAC), 6500 South Macarthur Boulevard, Oklahoma City, Oklahoma 73169 (pre-April 2021); and MITRE Corporation, 7525 Colshire Drive, McLean, Virginia 22102 (April 2021 onward).

3. Noise specific complaints: ATO System Operations, NAS Data Integration and Services, AJR-G2, Federal Aviation Administration, 3701 MacIntosh Dr., Warrenton, Virginia 20187.

SYSTEM MANAGER(S):

The system managers are as follows:

1. Hotline complaints, including SUP and whistleblower records: Director, Office of Audit and Evaluation (AAE-1), Federal Aviation Administration, 800 Independence Avenue SW, Washington, DC 20591, https://www.faa.gov/about/office_org/headquarters_offices/aae/.

2. AVS employee reporting: Manager, Flight Standards Service, Quality Control and Investigations Branch (AFB-440A), Federal Aviation Administration, 800 Independence Avenue SW, Washington, DC 20591 (pre-April 2021); and Executive Director, Office of Quality, Integration and Executive Services (AQS-1), Federal Aviation Administration, 800 Independence Avenue SW, Washington, DC 20591, 9-avs-vsrp@faa.gov (April 2021 onward); and

3. Noise specific complaints: IT Program Manager, System Data and Infrastructure (AJR-G2), Federal Aviation Administration, 3701 MacIntosh Dr., Warrenton, Virginia 20187, https://noise.faa.gov.

AUTHORITY FOR MAINTENANCE OF THE SYSTEM:

44 U.S.C. 3101; 49 U.S.C. Section 106(t); 49 U.S.C. 40101 section 341, section 510, section 1210 Federal Aviation Reauthorization Act of 1996, and section 180 FAA Reauthorization Act of 2018; 49 U.S.C. 42121; and 49 U.S.C. 44701.

PURPOSE(S) OF THE SYSTEM:

The purpose of this system of records is to cover reports of unsafe or unauthorized aviation activities concerning the perceived or actual violations of FAA regulation, order, or other provision of Federal law related to aviation safety or practices, including whistleblower, SUP and noise complaints.

CATEGORIES OF INDIVIDUALS COVERED BY THE SYSTEM:

Individuals covered by this system of records consist of complainants, including members of the public and FAA employees and contractors, and individuals who are the subject of such violations; and members of Congress and the public who call in or correspond with the FAA personnel.

CATEGORIES OF RECORDS IN THE SYSTEM:

Records maintained in this system include files specific to reports of alleged violations. Individual records may include names of complainants, contact information (phone number, address, email address), geolocation of noise, aircraft registration number, certificate number, aircraft tail number, and report/case tracking number (to include, but not limited to, reference number, case number, record number, and control number).

RECORD SOURCE CATEGORIES:

Reports of alleged violations and other aviation related concerns and safety-related issues, such as noise complaints, are received from complainants, including members of the public, FAA employees and contractors, and other federal agencies.

ROUTINE USES OF RECORDS MAINTAINED IN THE SYSTEM, INCLUDING CATEGORIES OF USERS AND THE PURPOSES OF SUCH USES:

In addition to other disclosures, generally permitted under 5 U.S.C. 552a(b) of the Privacy Act, all or a portion of the records or information contained in this system may be disclosed outside DOT as a routine use pursuant to 5 U.S.C. 552a(b)(3) as follows:

System Specific Routine Uses:

1. To the Federal Bureau of Investigation, U.S. Customs Service, and the Department of Defense, the initial SUP complaints received by FAA, for their use in any civil/criminal investigations when an FAA suspected unapproved parts case is initiated.

2. Routine use (2)(a) and (b) apply only to records pertaining to noise complaints, and do not apply to information contained in related hotline or whistleblower protection complaint files. Pursuant to routine use (2), the FAA may disclose:

a. To airport sponsors, federal agencies and departments operating manned and unmanned aircraft outside FAA's regulatory jurisdiction, and other operators of aerial landing and takeoff sites, records relating to noise complaints stemming from their operations to ensure consistency between the FAA and these entities on noise complaints;

b. To man and unmanned aircraft operators when necessary to resolve a complaint pertaining to the operator, or when necessary to ensure consistency between the FAA and the operator in responding to noise complaints. Records disclosed pursuant to this routine use are limited to the following information: geolocation only to the extent necessary to identify the general location of the noise complaint; time and date of complaint; and description of the complaint or inquiry. Complainant names and contact information will not be disclosed pursuant to this routine use; and

3. To officials of labor organizations recognized under 5 U.S.C. chapter 71, access to all information when relevant and necessary to their duties of exclusive representation concerning AVS's Voluntary Safety Reporting Program.

Department General Routine Uses:

4. In the event that a system of records maintained by DOT to carry out its functions indicates a violation or potential violation of law, whether civil, criminal or regulatory in nature, and whether arising by general statute or particular program pursuant thereto, the relevant records in the system of records may be referred, as a routine use, to the appropriate agency, whether Federal, State, local or foreign, charged with the responsibility of investigating or prosecuting such violation or charged with enforcing or implementing the statute, or rule, regulation, or order issued pursuant thereto.

5. A record from this system of records may be disclosed, as a routine use, to a Federal, State, or local agency maintaining civil, criminal, or other relevant enforcement information or other pertinent information, such as current licenses, if necessary to obtain information relevant to a DOT decision concerning the hiring or retention of an employee, the issuance of a security clearance, the letting of a contract, or the issuance of a license, grant or other benefit.

6. A record from this system of records may be disclosed, as a routine use, to a Federal agency, in response to its request, in connection with the hiring or retention of an employee, the issuance of a security clearance, the reporting of an investigation of an employee, the letting of a contract, or the issuance of a license, grant, or other benefit by the requesting agency, to the extent that the information is relevant and necessary to the requesting agency's decision on the matter.

7a. Routine Use for Disclosure for Use in Litigation. It shall be a routine use of the records in this system of records to disclose them to the Department of Justice or other Federal agency conducting litigation when (a) DOT, or any agency thereof, or (b) Any employee of DOT or any agency thereof, in his/her official capacity, or (c) Any employee of DOT or any agency thereof, in his/her individual capacity, where the Department of Justice has agreed to represent the employee, or (d) The United States or any agency thereof, where DOT determines that litigation is likely to affect the United States, is a party to litigation or has an interest in such litigation, and the use of such records by the Department of Justice or other Federal agency conducting the litigation is deemed by DOT to be relevant and necessary in the litigation, provided, however, that in each case, DOT determines that disclosure of the records in the litigation is a use of the information contained in the records that is compatible with the purpose for which the records were collected.

7b. Routine Use for Agency Disclosure in Other Proceedings. It shall be a routine use of records in this system to disclose them in proceedings before any court or adjudicative or administrative body before which DOT or any agency thereof, appears, when (a) DOT, or any agency thereof, or (b) Any employee of DOT or any agency thereof in his/her official capacity, or (c) Any employee of DOT or any agency thereof in his/her individual capacity where DOT has agreed to represent the employee, or (d) The United States or any agency thereof, where DOT determines that the proceeding is likely to affect the United States, is a party to the proceeding or has an interest in such proceeding, and DOT determines that use of such records is relevant and necessary in the proceeding, provided, however, that in each case, DOT determines that disclosure of the records in the proceeding is a use of the information contained in the records that is compatible with the purpose for which the records were collected.

8. The information contained in this system of records will be disclosed to the Office of Management and Budget, OMB in connection with the review of private relief legislation as set forth in OMB Circular No. A-19 at any stage of the legislative coordination and clearance process as set forth in that Circular.

9. Disclosure may be made to a Congressional office from the record of an individual in response to an inquiry from the Congressional office made at the request of that individual. In such cases, however, the Congressional office does not have greater rights to records than the individual. Thus, the disclosure may be withheld from delivery to the individual where the file contains investigative or actual information or other materials which are being used, or are expected to be used, to support prosecution or fines against the individual for alleged violations of a statute, or of regulations of the Department based on statutory authority. No such limitations apply to records requested for Congressional oversight or legislative purposes; release is authorized under 49 CFR 10.35(9).

10. One or more records from a system of records may be disclosed routinely to the National Archives and Records Administration in records management inspections being conducted under the authority of 44 U.S.C. 2904 and 2906.

11. Routine Use for disclosure to the Coast Guard and to Transportation Security Administration. A record from this system of records may be disclosed as a routine use to the Coast Guard and to the Transportation Security Administration if information from this system was shared with either agency when that agency was a component of the Department of Transportation before its transfer to the Department of Homeland Security and such disclosure is necessary to accomplish a DOT, TSA or Coast Guard function related to this system of records.

12. DOT may make available to another agency or instrumentality of any government jurisdiction, including State and local governments, listings of names from any system of records in DOT for use in law enforcement activities, either civil or criminal, or to expose fraudulent claims, regardless of the stated purpose for the collection of the information in the system of records. These enforcement activities are generally referred to as matching programs because two lists of names are checked for match using automated assistance. This routine use is advisory in nature and does not offer unrestricted access to systems of records for such law enforcement and related antifraud activities. Each request will be considered on the basis of its purpose, merits, cost effectiveness and alternatives using Instructions on reporting computer matching programs to the Office of Management and Budget, OMB, Congress, and the public, published by the Director, OMB, dated September 20, 1989.

13. It shall be a routine use of the information in any DOT system of records to provide to the Attorney General of the United States, or his/her designee, information indicating that a person meets any of the disqualifications for receipt, possession, shipment, or transport of a firearm under the Brady Handgun Violence Prevention Act. In case of a dispute concerning the validity of the information provided by DOT to the Attorney General, or his/her designee, it shall be a routine use of the information in any DOT system of records to make any disclosures of such information to the National Background Information Check System, established by the Brady Handgun Violence Prevention Act, as may be necessary to resolve such dispute.

14a. To appropriate agencies, entities, and persons when (1) DOT suspects or has confirmed that there has been a breach of the system of records; (2) DOT has determined that as a result of the suspected or confirmed breach there is a risk of harm to individuals, DOT (including its information systems, programs, and operations), the Federal Government, or national security; and (3) the disclosure made to such agencies, entities, and persons is reasonably necessary to assist in connection with DOT's efforts to respond to the suspected or confirmed breach or to prevent, minimize, or remedy such harm.

14b. To another Federal agency or Federal entity, when DOT determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

15. DOT may disclose records from this system, as a routine use, to the Office of Government Information Services for the purpose of (a) resolving disputes between FOIA requesters and Federal agencies and (b) reviewing agencies' policies, procedures, and compliance in order to recommend policy changes to Congress and the President.

16. DOT may disclose records from this system, as a routine use, to contractors and their agents, experts, consultants, and others performing or working on a contract, service, cooperative agreement, or other assignment for DOT, when necessary to accomplish an agency function related to this system of records.

17. DOT may disclose records from this system, as a routine use, to an agency, organization, or individual for the purpose of performing audit or oversight operations related to this system of records, but only such records as are necessary and relevant to the audit or oversight activity. This routine use does not apply to intra-agency sharing authorized under Section (b)(1) of the Privacy Act.

18. DOT may disclose from this system, as a routine use, records consisting of, or relating to, terrorism information (6 U.S.C. 485(a)(5)), homeland security information (6 U.S.C. 482(f)(1)), or Law enforcement information (Guideline 2 Report attached to White House Memorandum, “Information Sharing Environment, November 22, 2006) to a Federal, State, local, tribal, territorial, foreign government and/or multinational agency, either in response to its request or upon the initiative of the Component, for purposes of sharing such information as is necessary and relevant for the agencies to detect, prevent, disrupt, preempt, and mitigate the effects of terrorist activities against the territory, people, and interests of the United States of America, as contemplated by the Intelligence Reform and Terrorism Prevention Act of 2004 (Pub. L. 108-458) and Executive Order 13388 (October 25, 2005).

POLICIES AND PRACTICES FOR STORAGE OF RECORDS:

Records are stored in electronic databases and/or hard copy files.

POLICIES AND PRACTICES FOR RETRIEVAL OF RECORDS:

All complaint records can be retrieved by report/case tracking number (to include, but not limited to, reference number, case number, record number, and control number). FAA Hotline complaint records, including whistleblower records, can be retrieved by individual's name, and noise complaint records can be retrieved by individual's name, email address and address (street/city/state).

POLICIES AND PRACTICES FOR RETENTION AND DISPOSAL OF RECORDS:

FAA will maintain hotline complaint records, including whistleblower records, in accordance with DAA-0237-2019-0012 with cut off after cases are closed and destruction 3 years after cut off, SUP records in accordance with DAA-0237-2019-0010 with cut off at the end of the calendar year in which cases are closed and destruction 8 years after cut off, and AVS employee safety reporting records in accordance with DAA-0237-2019-0012 with destruction 3 years after cut off (pre-April 2021). The new retention schedule, DAA-0237-2020-0028, for the AVS employee safety reporting records (April 2021 onward) is still pending at NARA, so the FAA will treat these records as permanent records until it receives an approval of record disposition authority for the 15-year retention request. Additionally, the FAA is adding a new section to DAA-0237-2019-0012 to request destruction of noise complaint records to be 10 years after cut off with records to be treated as permanent records until approval of the new schedule by NARA.

ADMINISTRATIVE, TECHNICAL AND PHYSICAL SAFEGUARDS:

Records in this system are safeguarded in accordance with applicable rules and policies, including all applicable DOT automated systems security and access policies. Strict controls have been imposed to minimize the risk of compromising the information that is being stored. Access to records in this system is limited to those individuals who have a need to know the information for the performance of their official duties and who have appropriate clearances or permissions.

RECORD ACCESS PROCEDURES:

Individuals seeking notification of whether this system of records contains information about them may contact the System Manager at the address provided in the section “System Manager”. When seeking records about yourself from this system of records or any other Departmental system of records your request must conform to the Privacy Act regulations set forth in 49 CFR part 10. You must sign your request and your signature must either be notarized or submitted under 28 U.S.C. 1746, a law that permits statements to be made under penalty of perjury as a substitute for notarization. If your request is seeking records pertaining to another living individual, you must include a statement from that individual certifying his/her agreement for you to access his/her records.

CONTESTING RECORDS PROCEDURES:

See “Redress Access Procedure” above.

NOTIFICATION PROCEDURES:

See “Redress Access Procedure” above.

EXEMPTIONS PROMULGATED FOR THE SYSTEM:

None.

HISTORY:

A full notice of this system of records, DOT/FAA 845, was published in the Federal Register on April 11, 2000 (65 FR 19526).

Issued in Washington, DC.
Karyn Gorman,
Acting Departmental Chief Privacy Officer.

[FR Doc. 2022-22126 Filed 10-11-22; 8:45 am]

BILLING CODE 4910-9X-P